DEPARTMENT OF COMMERCE

Foreign-Trade Zones Board

[B-50-2023]

Foreign-Trade Zone (FTZ) 45; Notification of Proposed Production Activity; Epson Portland Inc. (Inkjet Ink Cartridges and Bottles), Hillsboro, Oregon

Epson Portland Inc. submitted a notification of proposed production activity to the FTZ Board (the Board) for its facility in Hillsboro, Oregon within Subzone 45F. The notification conforming to the requirements of the Board's regulations (15 CFR 400.22) was received on September 18, 2023.

Pursuant to 15 CFR 400.14(b), FTZ production activity would be limited to the specific foreign-status material(s)/component(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status materials and components include liquid black dye based unfinished/undiluted inkjet inks, liquid color pigment based unfinished/undiluted inkjet inks for cartridges and bottles (colors include magenta, red, yellow and blue), liquid color dye based unfinished/undiluted inkjet inks for cartridges and bottles (colors include magenta, red, yellow and blue) and solid plastic color additive beads (black and gray) (duty rate ranges from 1.8% to 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is November 1, 2023.

A copy of the notification will be available for public inspection in the “Online FTZ Information System” section of the Board's website.

For further information, contact Diane Finver at Diane.Finver@trade.gov.

Dated: September 18, 2023
Elizabeth Whiteman,
Executive Secretary.

[FR Doc. 2023-20547 Filed 9-21-23; 8:45 am]

BILLING CODE 3510-DS-P